DEPARTMENT OF TRANSPORTATION

Federal Aviation Administration

14 CFR Part 71

[Docket No. FAA-2006-24027; Airspace Docket No. 06-ASO-1]

RIN 2120-AA66

Proposed Modification of VOR Federal Airways; and Establishment of Area Navigation Route; NC

AGENCY: Federal Aviation Administration (FAA), DOT.

ACTION: Notice of proposed rulemaking.

SUMMARY: This action proposes to modify Very High Frequency Omnidirectional Range (VOR) Federal Airways V-56 and V-290, NC; and Colored Federal Airway G-13, NC; to remove unusable airway segments. The affected airway segments are unusable because they are based on nondirectional beacon (NDB) navigation aids that have been permanently decommissioned. In addition, the FAA proposes to establish a new low altitude area navigation (RNAV) route, designated T-243, to enhance instrument flight rules (IFR) access to the Outer Banks area of North Carolina.

DATES: Comments must be received on or before May 1, 2006.

ADDRESSES: Send comments on this proposal to the Docket Management System, U.S. Department of Transportation, Room Plaza 401, 400 Seventh Street, SW., Washington, DC 20590-0001. You must identify FAA Docket No. FAA-2006-24027 and Airspace Docket No. 06-ASO-1, at the beginning of your comments. You may also submit comments through the Internet at http://dms.dot.gov.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2006-24027 and Airspace Docket No. 06-ASO-1) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2006-24027 and Airspace Docket No. 06-ASO-1.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

Background

VOR Federal Airways V-56 and V-290, and Colored Federal Airway G-13 include segments that are based on navigational information derived from the Pamlico, NC, NDB, and/or the Hatteras Inlet, NC, NDB. These state-owned navigation aids have been permanently decommissioned and are no longer available as a navigation reference source. As a result, the descriptions of these airways must be revised to delete the segments that were rendered unusable by the decommissioning of the NDBs.

The Proposal

The FAA is proposing an amendment to Title 14 Code of Federal Regulations (14 CFR) part 71 to modify the descriptions of VOR Federal Airways V-56 and V-290, and Colored Federal Airway G-13, by deleting segments that are based on NDBs that are no longer in service. The FAA is also proposing to establish a Global Positioning System (GPS)/Global Navigation Satellite System (GNSS) area navigation route, designated T-243, to enhance IFR navigation in the Outer Banks area of North Carolina.

Specifically, the FAA proposes to amend V-56 by deleting the airway segment that extends from the charted PUNGO fix to the Hatteras Inlet NDB. V-290 would be modified by deleting the segment that extends from the PUNGO fix to the Pamlico NDB. Colored Federal Airway G-13 would be modified by removing the segments that are based on the Pamlico NDB and the Hatteras Inlet NDB. A short segment of G-13, extending from the Manteo, NC, NDB to a point defined by the intersection of the Manteo NDB 139° (T)/148° (M) bearing and the Wright Brothers VOR/DME 22-mile DME arc, would be retained. Proposed RNAV route T-243 would extend from the PUNGO fix, southeastward to HULIP WP, then northeastward to ZOLMN fix. The proposed T-243 route would extend over the North Carolina Outer Banks in the general vicinity of the unusable airway segments discussed above. This route would enhance IFR access to that area and provide connectivity to the Federal airway structure.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6009(a) Colored Federal Airways.

* * * * *

G-13 [Revised]

From Manteo, NC, NDB, to INT Manteo, NC, NDB 139° (T)/148° (M) bearing and Wright Brothers, NC, 22 miles DME.

* * * * *

Paragraph 6010(a) Domestic VOR Federal Airways.

* * * * *

V-56 [Revised]

From Meridian, MS; Kewanee, MS; Montgomery, AL; Tuskeegee, AL; Columbus, GA; INT Columbus 087° (T) and Macon, GA, 266° (T) radials; Macon; Colliers, SC; Columbia, SC; Florence, SC; Fayetteville, NC, 41 miles 15 MSL, INT Fayetteville 098° (T) and New Bern, NC 256° (T) radials; to New Bern.

* * * * *

V-290 [Revised]

From Rainelle, WV; Montebello, VA; to Flat Rock, VA. From Tar River, NC; to INT Tar River 109° (T)/114° (M) radial and New Bern, NC, 042° (T)/050° (M) radial.

* * * * *

Paragraph 6011 Contiguous United States Area Navigation Routes.

* * * * *

T-243 PUNGO to ZOLMN [New]
PUNGO | Fix | Lat. 35°36′38″ N., long. 76°27′03″ W.
HULIP | WP | Lat. 35°07′47″ N., long. 75°48′32″ W.
ZOLMN | Fix | Lat. 35°38′42″ N., long. 75°24′27″ W.

* * * * *

Issued in Washington, DC, on March 9, 2006.
Edith V. Parish,
Manager, Airspace and Rules.

[FR Doc. E6-3852 Filed 3-16-06; 8:45 am]

BILLING CODE 4910-13-P